DEPARTMENT OF JUSTICE

Office of Justice Programs

Agency Information Collection Activities: Proposed Collection; Comments Requested

ACTION: 30-Day notice of information collection under review: Survey of Infectious Disease in Correctional Facilities.

The Department of Justice (DOJ), Office of Justice Programs (OJP) has submitted the following information collection request to the Office of Management and Budget (OMB) for review and approval in accordance with the Paperwork Reduction Act of 1995. The proposed information collection is published to obtain comments from the public and affected agencies. This proposed information collection was previously published in the Federal Register Volume 69, Number 6, page 1605 on January 9, 2004, allowing for a 60 day comment period.

The purpose of this notice is to allow for an additional 30 days for public comment until May 26, 2004. This process is conducted in accordance with 5 CFR 1320.10.

Written comments and/or suggestions regarding the items contained in this notice, especially the estimated public burden and associated response time, should be directed to The Office of Management and Budget, Office of Information and Regulatory Affairs, Attention Department of Justice Desk Officer, Washington, DC 20503. Additionally, comments may be submitted to OMB via facsimile to (202) 395-5806. Written comments and suggestions from the public and affected agencies concerning the proposed collection of information are encouraged. Your comments should address one or more of the following four points:

• Evaluate whether the proposed collection of information is necessary for the proper performance of the functions of the agency, including whether the information will have practical utility;

• Evaluate the accuracy of the agencies estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Overview of This Information Collection

(1) Type of Information Collection: New Collection.

(2) Title of the Form/Collection: Survey of Infectious Disease in Correctional Facilities.

(3) Agency form number, if any, and the applicable component of the Department of Justice sponsoring the collection: Form Number: none. National Institute of Justice (NIJ), Office of Justice Programs (OJP), Department of Justice.

(4) Affected public who will be asked or required to respond, as well as a brief abstract: Primary: Business or other for-profit, Not-for-profit institutions, and the Federal Government. The Survey of Infectious Diseases in Correctional Facilities addresses the need for information about disease prevention, education, diagnosis, and treatment in prisons and jails. Sponsored by the NIJ and the Centers for Disease Control and Prevention (CDC), the survey is designed to identify and analyze practices for addressing infectious diseases in adult facilities nationwide, as well as to gather aggregate data on sexually transmitted diseases (STDs) and tuberculosis (TB) test results. The survey includes a section on Hepatitis A, B and C. Data and information collected from this section will serve as baseline documentation for levels of adherence to forthcoming CDC guidelines on the prevention and treatment of hepatitis in correctional facilities. Survey respondents are the 50 State correctional systems, the Federal Bureau of Prisons, the 50 largest city and country jail systems, the five largest tribal facilities, five city and county jails in smaller cities, and ten regional or rural county jails. This survey will be conducted by mail, with extensive telephone follow-up. A validation survey using subset instruments will be conducted with 50 prison facilities from 10 States and the Federal system. NIJ, CDC, and Abt Associates Inc. have worked together closely to develop the survey instrument to address emerging issues and practices, including new therapies and a section that focuses on the technological capabilities with Departments of Correction and the largest city and county jails. The data will be presented in a series of short disease and activity-specific reports (e.g., “HIV”, “Discharge Planning Policies”).

(5) An estimate of the total number of respondents and the amount of time estimated for an average respondent to respond: There are approximately 171 respondents which include 121 correctional institutions (prisons or jails) for the full survey, and 50 correctional institutions for the validation survey. The estimated time to complete the full survey is 4 hours and approximately 1 hour to complete the validation survey.

(6) An estimate of the total public burden (in hours) associated with the collection: There are approximately 534 annual burden hours associated with this collection.

If additional information is required contact: Brenda E. Dyer, Deputy Clearance Officer, United States Department of Justice, Justice Management Division, Policy and Planning Staff, Patrick Henry Building, Suite 1600, 601 D Street, NW., Washington, DC 20530.

Dated: April 20, 2004.
Brenda E. Dyer,
Department Deputy Clearance Officer, PRA, Department of Justice.

[FR Doc. 04-9350 Filed 4-23-04; 8:45 am]

BILLING CODE 4410-18-P